ENVIRONMENTAL PROTECTION AGENCY

40 CFR Part 52

[EPA-R01-OAR-2016-0648; A-1-FRL-9958-37-Region 1]

Air Plan Approval; CT; Approval of Single Source Orders

AGENCY: Environmental Protection Agency (EPA).

ACTION: Direct final rule.

SUMMARY: The Environmental Protection Agency (EPA) is approving State Implementation Plan (SIP) revisions submitted by the State of Connecticut. The revisions establish reasonably available control technology (RACT) for two facilities that emit volatile organic compounds (VOCs) in the state. Additionally, we are also approving Connecticut's request to withdraw seven previously-approved single source orders from the SIP. This action is being taken in accordance with the Clean Air Act.

DATES: This direct final rule will be effective June 30, 2017, unless EPA receives adverse comments by May 31, 2017. If adverse comments are received, EPA will publish a timely withdrawal of the direct final rule in the Federal Register informing the public that the rule will not take effect.

ADDRESSES: Submit your comments, identified by Docket ID No. EPA-R01-OAR-2016-0648 at http://www.regulations.gov, or via email Anne Arnold at: arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Bob McConnell, Environmental Engineer, Air Quality Planning Unit, Air Programs Branch (Mail Code OEP05-02), U.S. Environmental Protection Agency, Region 1, 5 Post Office Square, Suite 100, Boston, Massachusetts, 02109-3912; (617) 918-1046; mcconnell.robert@epa.gov.

SUPPLEMENTARY INFORMATION: Throughout this document whenever “we,” “us,” or “our” is used, we mean EPA.

Organization of this document. The following outline is provided to aid in locating information in this preamble.

I. Background and Purpose

II. Description and Evaluation of VOC RACT Order Submittals

1. Order for Mallace Industries

2. Order for Hamilton Sundstrand

III. Description and Evaluation of VOC RACT Order Withdrawal Requests

1. Withdrawal Request for Pfizer Global Manufacturing

2. Withdrawal Request for Coats North America

3. Withdrawal Request for Uniroyal Chemical Company

4. Withdrawal Request for Watson Laboratories

5. Withdrawal Request for Pratt & Whitney Aircraft

6. Withdrawal Request for Dow Chemical

7. Withdrawal Request for Sikorsky Aircraft

IV. Final Action

V. Incorporation by Reference

VI. Statutory and Executive Order Reviews

I. Background and Purpose

The Clean Air Act (CAA) requires states in the Ozone Transport Region (OTR), as well as moderate and above ozone nonattainment areas, to implement RACT for major sources of volatile organic compounds. Connecticut is in the OTR and the state is currently designated nonattainment and classified as moderate for the 2008 ozone standard. See 40 CFR 81.307.

The Connecticut Department of Energy and Environmental Protection (CT DEEP) submitted to EPA two single source orders establishing RACT for sources of VOCs for incorporation into the Connecticut State Implementation Plan (SIP), and also submitted requests to withdraw from the SIP seven previously-approved orders. The two orders submitted for approval are Consent Order 8001, issued to Mallace Industries, located in Clinton, Connecticut, submitted to EPA on January 13, 2006, and Consent Order 8029, issued to Hamilton Sundstrand, located in Windsor Locks, Connecticut, submitted to EPA on November 15, 2011. The seven withdrawal requests are for the following previously-approved Consent Orders: Order 8021 issued to Pfizer Global Manufacturing; Order 8032 issued to Heminway and Bartlett Company (which was subsequently renamed Coats North America); Order 8009 issued to Uniroyal Chemical Company; Order 8200 issued to Watson Laboratories; Order 8014 issued to Pratt & Whitney Aircraft; Order 8011 issued to the Dow Chemical Company; and Order 8010 issued to Sikorsky Aircraft.

A description of these submittals and our evaluation of them appears below in Section II of this document.

II. Description and Evaluation of VOC RACT Order Submittals

1. Order for Mallace Industries

Consent Order 8001 was issued to Frismar, Incorporated, located in Clinton, Connecticut, on October 19, 1987, pursuant to section 22a-174-20(cc) of the Regulations of Connecticut State Agencies (RCSA),¹ which at the time was the state's alternative emission reduction mechanism for sources that could not otherwise meet prescribed RACT measures. Connecticut submitted the order to EPA as a SIP revision request, and EPA approved the order on November 28, 1989. See 54 FR 48885. Subsequently, ownership of the facility changed to Mallace Industries, and on September 13, 2005, Connecticut issued Consent Order 8258 to Mallace to maintain the appropriate, enforceable operating conditions contained within Order 8001, and to reflect the new ownership and current operating conditions. Consent Order 8258 contains a lower annual cap for one of the two paper coating machines at the facility, lowering its annual emissions cap from 34.0 tons to 15.9 tons. With this restriction, the source's total emissions will be below the 50 tons per year major source RACT applicability threshold. The order contains daily, monthly, and annual recordkeeping requirements, and the facility is required to submit a report to the state annually that includes a summary of the monthly VOC emissions for the facility. Connecticut held a public hearing on Consent Order 8258 on January 6, 2006, and by letter dated January 13, 2006, submitted the order to EPA as a SIP revision request. Since Consent Order 8258 has a lower cap on emissions than the previously SIP-approved order for this facility, the anti-back sliding requirements of Section 110(l) of the CAA have been met. Therefore, we are approving the order into the Connecticut SIP.

¹ This regulation has been approved into the Connecticut SIP. See 47 FR 24452; June 7, 1982.

2. Order for Hamilton Sundstrand

Consent Order 8029 was issued to Hamilton Standard, located in Windsor Locks, Connecticut, on December 22, 1989, pursuant to RCSA section 22a-174-20(ee).² Connecticut submitted the order to EPA as a SIP revision request, which EPA approved on March 12, 1990. See 55 FR 9121. Subsequently, the facility determined that potential VOC emissions from test rigs were also subject to VOC RACT. Since the original order did not cover this equipment, Connecticut issued an amended order, Consent Order 8029A, to supersede the original order. Consent Order 8029A maintains the appropriate, enforceable operating conditions contained within Order 8029, and contains additional VOC limits for calibration fluids used in the facility's test rigs. Connecticut held a public hearing on Consent Order 8029A on August 24, 2011, and by letter dated November 15, 2011, submitted the order to EPA as a SIP revision request. Since the order contains additional emission reduction requirements beyond the previously SIP-approved order for this facility, the anti-back sliding requirements of Section 110(l) of the CAA have been met. Therefore, we are approving the order into the Connecticut SIP.

² This regulation has been approved into the Connecticut SIP. See 49 FR 41026; October 19, 1984.

In addition, the CAA section 193 General Savings Clause applies to the above two orders since they were approved into the Connecticut SIP prior to the CAA amendments of 1990. Section 193 of the CAA prohibits any control measure in effect in a nonattainment area prior to the enactment of the CAA Amendments of 1990 to be modified after enactment, unless such modification yields equivalent or greater emission reductions. Our review of the updated orders issued to Mallace Industries and Hamilton Sundstrand indicates that they meet this requirement.

III. Description and Evaluation of VOC RACT Order Withdrawal Requests

1. Withdrawal Request for Pfizer Global Manufacturing

In 1988, Connecticut issued Consent Order 8021 to Pfizer Incorporated, located in Groton, Connecticut, to establish VOC RACT requirements pursuant to RCSA section 22a-174-20(ee). The state submitted this order to EPA as a SIP revision request, and EPA approved it into the Connecticut SIP on November 30, 1989. See 54 FR 49284. During an inspection conducted on September 3, 2002, Connecticut confirmed that the manufacturing operations covered by Order 8021 had been permanently discontinued. Furthermore, within an April 23, 2003 letter to Connecticut, Pfizer notified the agency that it no longer intended to manufacture any of the products subject to Order 8021, making the order obsolete. By letter dated July 1, 2004, Connecticut requested that Order 8021 be withdrawn from the SIP. The state held a public hearing on this SIP withdrawal request on January 15, 2004, and we are approving the request and removing the order from the Connecticut SIP. For facilities such as this, as well as those described in sections III.2, III.3, and III.4 below, where operations have been permanently discontinued (i.e., equipment has been removed) and this fact has been confirmed by inspection, the CAA section 110(l) anti-back sliding requirements and the CAA section 193 General Savings Clause requirements have been met as there are no longer any emissions from these operations.

2. Withdrawal Request for Coats North America

Connecticut issued Consent Order 8032 to the Heminway and Bartlett Company, located in Watertown, Connecticut, in 1989. The order was issued to establish VOC RACT requirements pursuant to RCSA section 22a-174-20(ee), and an amended order was issued to update the ownership and operating conditions at the facility in 2004. Subsequent to the issuance of the amended order, the facility shut down, which Connecticut confirmed by an inspection conducted on May 13, 2005. Accordingly, Connecticut submitted a SIP revision request on January 13, 2006, asking that the order, which EPA approved into the Connecticut SIP on March 12, 1990 (see 55 FR 9442), be removed from the Connecticut SIP. The state held a public hearing on this SIP withdrawal request on January 6, 2006, and we are approving the request and removing the order from the Connecticut SIP.

3. Withdrawal Request for Uniroyal Chemical Company

Connecticut issued Consent Order 8009 to the Uniroyal Chemical Company, located in Naugatuck, Connecticut, in 1989. The order was issued to establish VOC RACT requirements pursuant to RCSA section 22a-174-20(ee). Connecticut submitted Order 8009 to EPA as a SIP revision request, which EPA approved on December 22, 1989. See 54 FR 52798. Subsequent to the issuance of the order, the facility shut down, which Connecticut confirmed by an inspection conducted on August 26, 2004. Accordingly, Connecticut submitted a SIP revision request on January 13, 2006, asking that the order be removed from the Connecticut SIP. The state held a public hearing on this SIP withdrawal request on January 6, 2006, and we are approving the request and removing the order from the Connecticut SIP.

4. Withdrawal Request for Watson Laboratories

Connecticut issued Consent Order 8200 to Watson Laboratories, located in Danbury, Connecticut, in 2002. The order was issued to establish VOC RACT requirements pursuant to RCSA section 22a-174-32(e)(6).³ Connecticut submitted Order 8200 to EPA as a SIP revision request, and EPA approved the Order on October 24, 2005. See 70 FR 61384. Subsequent to the issuance of the order, the facility shut down, which Connecticut confirmed by an inspection conducted on September 13, 2005. Accordingly, Connecticut submitted a SIP revision request on January 13, 2006, asking that the order be removed from the Connecticut SIP. The state held a public hearing on this SIP withdrawal request on January 6, 2006, and we are approving the request and removing the order from the Connecticut SIP.

³ This regulation has been approved into the Connecticut SIP. See 65 FR 62620; October 19, 2000.

5. Withdrawal Request for Pratt & Whitney Aircraft

Connecticut issued Consent Order 8014 to Pratt & Whitney Aircraft located in East Hartford, Connecticut, in 1989. The order was issued to establish VOC RACT requirements pursuant to RCSA section 22a-174-20(ee). Connecticut submitted the order to EPA as a SIP revision request, and EPA approved the Order on May 30, 1989. See 54 FR 22890. Subsequent to the issuance of the order, Connecticut adopted regulations limiting VOC emissions from the equipment and activity covered by Order 8014, and the facility ceased operation of most activity covered by the order. Specifically, the degreasers covered by Order 8014 have all been removed from the facility. Additionally, in 2010, Connecticut adopted section 22a-174-20(ii) defining RACT for hand wiping operations. These requirements were approved by EPA on June 9, 2014 (see 79 FR 32873) and are at least as stringent as those within Order 8014. Accordingly, Connecticut submitted a SIP revision request on July 15, 2016, asking that Order 8014 be removed from the Connecticut SIP. The state offered a notice of opportunity for public hearing on this SIP withdrawal request on March 18, 2016. Since the newer SIP-approved regulatory requirements are at least as stringent as the previously SIP-approved order, the CAA section 110(l) anti-back sliding requirements and the CAA section 193 General Savings Clause requirements have been met. Therefore, we are approving the state's request and removing the Order 8014 from the Connecticut SIP.

6. Withdrawal Request for Dow Chemical

Connecticut issued Consent Order 8011 to the Dow Chemical Company located in Gales Ferry, Connecticut, in 1988. The order was issued to establish VOC RACT requirements pursuant to RCSA section 22a-174-20(ee). Connecticut submitted Order 8011 to EPA as a SIP revision request, and EPA approved the Order on March 8, 1989. See 54 FR 9781. Subsequent to the issuance of the order, Dow shut down portions of its manufacturing operation, and transferred other portions of its manufacturing operations to Trinseo, LLC, and Americas Styrenics, LLC. Connecticut confirmed by an inspection conducted on August 1, 2011, that portions of the manufacturing operations covered by Order 8011 had been dismantled. Additionally, a Connecticut “Order Closure” dated May 4, 2016, indicates that Dow no longer owns or operates equipment covered by Order 8011, and that the VOC emitting equipment remaining at the facility operated by the entities mentioned above are subject to similar regulatory limits which, in most cases, were transferred to the new owners. Accordingly, Connecticut submitted a SIP revision request on July 15, 2016, asking that the Order 8011 be removed from the Connecticut SIP. The state provided public notice and an opportunity to comment on its intent to revise the SIP. Since the VOC emitting equipment subject to the Order 8011 has either been removed from the facility or is covered by other regulatory requirements that are at least as stringent as that required by Order 8011, the CAA Section 110(l) anti-back sliding requirements and the CAA section 193 General Savings Clause requirements have been met. Therefore, we are approving Connecticut's request, and removing the order from the Connecticut SIP.

7. Withdrawal Request for Sikorsky Aircraft

Connecticut issued Consent Order 8010 to Sikorsky Aircraft located in Stratford, Connecticut, in 1988. The order was issued to establish VOC RACT requirements pursuant to RCSA section 22a-174-20(ee). Subsequently, in 1995, Connecticut added Addendum A to the order to set coating limits for the facility. Addendum B was also added to the order, providing emission reduction credits as a result of degreaser shutdowns. Connecticut submitted Order 8010 and both addenda to EPA as a SIP revision request, which EPA approved on February 9, 1998. See 63 FR 6484.

Subsequent to the issuance of the order and addenda, Connecticut issued Order 8246 to Sikorsky on October 31, 2003, to reflect updated operating conditions and regulations applicable to the facility. Order 8246 required Sikorsky to limit VOC emissions to the emission limits specified within 22a-174-20(s), with the exception of the limits for the coating of the exterior surface of assembled aircraft, as the facility could not meet that limit. Therefore, Order 8246 provided a method of compliance for the facility's use of exterior aircraft coatings through the generation and use of VOC emission reduction credits to offset excess emissions.

Subsequent to the issuance of Order 8246, Connecticut adopted amendments to 22a-174-20(s). EPA approved the amendments to RCSA 22a-174-20(s) into the Connecticut SIP on June 9, 2014. See 79 FR 32873. The amendments incorporated VOC content limits for coatings from EPA's aerospace National Emission Standard for Hazardous Air Pollutants (NESHAP) (see 40 CFR part 63, subpart GG), and EPA's aerospace control techniques guideline (see EPA-453/R-97-004, December 1997). By letter dated January 30, 2014, Sikorsky documented that all coatings used at the facility meet the requirements of the amended version of 22a-174-20(s). Since the facility demonstrated that it can meet the limits within 22a-174-20(s), compliance via the generation and use of VOC emission reduction credits is no longer necessary.

On May 4, 2016, Connecticut closed out the order because it had become obsolete, primarily due to the state's adoption of amendments to RCSA 22a-174-20(s). Connecticut submitted a withdrawal request to EPA for Order 8010 on July 15, 2016, asking that it be removed from the Connecticut SIP. The state offered a notice of opportunity for public hearing on this SIP withdrawal request on March 18, 2016. Since the current SIP requirements are at least as stringent as those in Order 8010, the CAA Section 110(l) anti-back sliding requirements and the CAA section 193 General Savings Clause requirements have been met. Therefore, we are approving Connecticut's request, and removing the order from the Connecticut SIP.

In addition, although Connecticut had previously submitted Order 8246 for Sikorsky to EPA as a SIP revision request, this request was later withdrawn by letter dated July 21, 2016, prior to EPA taking action on it.

IV. Final Action

EPA is approving, and incorporating into the Connecticut SIP, single source orders that establish VOC RACT requirements for Mallace Industries and Hamilton Sundstrand. EPA is also removing from the Connecticut SIP previously approved orders for Pfizer Global Manufacturing, Coats North America, Uniroyal Chemical Company, Watson Laboratories, Pratt and Whitney Aircraft, Dow Chemical, and Sikorsky Aircraft.

The EPA is publishing this action without prior proposal because the Agency views this as a noncontroversial amendment and anticipates no adverse comments. However, in the proposed rules section of this Federal Register publication, EPA is publishing a separate document that will serve as the proposal to approve the SIP revision should relevant adverse comments be filed. This rule will be effective June 30, 2017 without further notice unless the Agency receives relevant adverse comments by May 31, 2017.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on June 30, 2017 and no further action will be taken on the proposed rule. Please note that if EPA receives adverse comment on an amendment, paragraph, or section of this rule and if that provision may be severed from the remainder of the rule, EPA may adopt as final those provisions of the rule that are not the subject of an adverse comment.

V. Incorporation by Reference

In this rulemaking, EPA is finalizing regulatory text that includes incorporation by reference. In accordance with requirements of 1 CFR 51.5, EPA is incorporating by reference VOC RACT orders for Mallace Industries and Hamilton Sunstrand, as previously discussed in section II in this rulemaking. EPA has made, and will continue to make, these materials generally available through http://www.regulations.gov and/or at the EPA Region 1 Office (please contact the person identified in the FOR FURTHER INFORMATION CONTACT section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by June 30, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Ozone, Reporting and recordkeeping requirements, Volatile organic compounds.

Dated: December 27, 2016.
Deborah A. Szaro,
Acting Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraphs (c)(48)(i)(C), (c)(51)(i)(D), (c)(52)(i)(D), (c)(53)(i)(C), (c)(55)(i)(B), (c)(60)(i)(C), (c)(96)(i)(E), and (c)(115) to read as follows:

§ 52.370 Identification of plan

* * * * *

(c) * * *

(48) * * *

(i) * * *

(C) State Order No. 8011, which was approved in paragraph (c)(48)(i)(B), is removed without replacement; see paragraph (c)(115)(i)(C).

* * * * *

(51) * * *

(i) * * *

(D) State Order No. 8014, which was approved in paragraph (c)(51)(i)(B), is removed without replacement; see paragraph (c)(115)(i)(D).

(52) * * *

(i) * * *

(D) State Order No. 8021, which was approved in paragraph (c)(52)(i)(B), and appendices C and D to State Order No. 8021, which were approved in paragraph (c)(52)(C), are removed without replacement; see paragraph (c)(115)(i)(E).

(53) * * *

(i) * * *

(C) State Order No. 8009, which was approved in paragraph (c)(53)(i)(B), is removed without replacement; see paragraph (c)(115)(i)(F).

* * * * *

(55) * * *

(i) * * *

(C) State Order No. 8032, which was approved in paragraph (c)(55)(i)(B), is removed without replacement; see paragraph (c)(115)(i)(G).

* * * * *

(60) * * *

(i) * * *

(C) State Order No. 8010, which was approved in paragraph (c)(60)(i)(B), is removed without replacement; see paragraph (c)(115)(i)(H).

* * * * *

(96) * * *

(i) * * *

(E) State Order No. 8200, which was approved in paragraph (c)(96)(i)(C), is removed without replacement; see paragraph (c)(115)(i)(I).

* * * * *

(115) Revisions to the State Implementation Plan submitted by the Connecticut Department of Energy and Environmental Protection on July 1, 2004, January 13, 2006, November 15, 2011, and July 15, 2016.

(i) Incorporation by reference.

(A) State of Connecticut vs. Mallace Industries Corporation, Consent Order No. 8258, issued as a final order on September 13, 2005.

(B) State of Connecticut vs. Hamilton Sundstrand, a United Technologies Company, Order No. 8029A, issued as a final order on September 3, 2009.

(C) State Order No. 8011, and attached Compliance Timetable and Appendix A (allowable limits by product classification) for Dow Chemical, U.S.A. in Gales Ferry, Connecticut, issued as State Order No. 8011, effective on October 27, 1988, and approved in paragraph (c)(48(i)(B) is removed without replacement.

(D) State Order No. 8014, and attached Compliance Timetable for Pratt & Whitney Division of United Technologies Corporation in East Hartford, Connecticut, issued as State Order No. 8014, effective on March 22, 1989, and approved in paragraph (c)(51)(i)(B) is removed without replacement.

(E) State Order No. 8021, and attached Compliance Timetable, and Appendix A (allowable limits on small, uncontrolled vents and allowable outlet gas temperatures for surface condensers) for Pfizer, Incorporated in Groton, Connecticut, issued as State Order No. 8021, effective on December 2, 1988, and approved in paragraph (c)(52)(i)B) is removed without replacement.

(F) State Order No. 8009, and attached Compliance Timetable, Appendix A, Appendix B, and Appendix C for Uniroyal Chemical Company, Inc. in Naugatuck, Connecticut, issued as State Order No. 8009, effective on September 5, 1989, and approved in paragraph (c)(53)(i)(B), is removed without replacement.

(G) State Order No. 8032, and attached Compliance Timetable for the Heminway & Bartlett Manufacturing Company in Watertown, Connecticut, issued as State Order No. 8032, effective on November 29, 1989, and approved in paragraph (c)(55)(i)(B), is removed without replacement.

(H) State Order No. 8010, for Sikorsky Aircraft Corporation, effective on January 29, 1990, as well as Addendum A and Addendum B to Order No. 8010, effective on February 7, 1996 and September 29, 1995, respectively, issued as State Order No. 8010, and two addenda, define and impose RACT on certain VOC emissions at Sikorsky Aircraft Corporation in Stratford, Connecticut, and approved in paragraph (c)(60)(i)(B) is removed without replacement.

(I) State Order No. 8200, issued by the Connecticut Department of Environmental Protection to Watson Laboratories, Inc., effective October 3, 2002, and approved in paragraph (c)(96)(i)(C) is removed without replacement.

(ii) Additional materials. [Reserved]

3. In § 52.385, Table 52.385 is amended by adding two entries for existing state citation 22a-174-32 to read as follows:

§ 52.385 EPA-approved Connecticut regulations.

* * * * *

Table 52.385—EPA-Approved Regulations
Connecticut state citation | Title/subject | Dates: Date adopted by State | Dates: Date approved by EPA | Federal Register citation | Section 52.370 | Comments/description
* * * * * * *
22a-174-32 | Reasonably available control technology for volatile organic compounds | 9/13/05 | 5/1/17 | [Insert Federal Register citation] | (c)(115) | VOC RACT for Mallace Industries
22a-174-32 | Reasonably available control technology for volatile organic compounds | 9/3/09 | 5/1/17 | [Insert Federal Register citation] | (c)(115) | VOC RACT for Hamilton Sundstrand
* * * * * * *

[FR Doc. 2017-08647 Filed 4-28-17; 8:45 am]

BILLING CODE 6560-50-P